DEPARTMENT OF COMMERCE

International Trade Administration

[C-580-818]

Corrosion-Resistant Carbon Steel Flat Products from the Republic of Korea: Extension of Time Limit for Final Results of Countervailing Duty Administrative Review

AGENCY: Import Administration, International Trade Administration, Department of Commerce.

FOR FURTHER INFORMATION CONTACT: Gayle Longest, AD/CVD Operations, Office 3, Import Administration, International Trade Administration, U.S. Department of Commerce, Room 4014, 14th Street and Constitution Ave. NW., Washington, DC 20230, telephone: (202) 482-3338.

SUPPLEMENTARY INFORMATION:

Background

On August 31, 2011, the Department of Commerce (“the Department”) published a notice of preliminary results of the administrative review of the countervailing duty order on corrosion-resistant carbon steel flat products from the Republic of Korea covering the period January 1, 2009, through December 31, 2009. See Corrosion-Resistant Carbon Steel Flat Products From the Republic of Korea: Preliminary Results of Countervailing Duty Administrative Review, 76 FR 54209 (August 31, 2011) (“Preliminary Results”). The final results were originally due no later than December 29, 2011.

Extension of Time Limit for Final Results

Section 751(a)(3)(A) of the Tariff Act of 1930, as amended (“the Act”), requires the Department to make a final determination within 120 days after the date on which the preliminary results is published. Section 751(a)(3)(A) of the Act further states that if it is not practicable to complete the review within the time period specified, the administering authority may extend the 120-day period to issue its final results to up to 180 days.

We have determined that it is not practicable to complete the final results within the 120-day period. Specifically, after the issuance of the Preliminary Results, complex issues arose concerning the short-term benchmark interest rate. Therefore, to allow sufficient time to collect and analyze the additional information, and to conduct the briefing process, the Department is fully extending the final results. Therefore, in accordance with section 751(a)(3)(A) of the Act, we are extending the time period for issuing the final results of the review by 60 days. The final results are now due no later than February 27, 2012.

This notice is issued and published in accordance with section 751(a)(3)(A) of the Act.

Dated: December 7, 2011.
Edward C. Yang,
Acting Deputy Assistant Secretary for Antidumping and Countervailing Duty Operations.

[FR Doc. 2011-32092 Filed 12-13-11; 8:45 am]

BILLING CODE 3510-DS-P